DEPARTMENT OF ENERGY

Federal Energy Regulatory Commission

[Docket No. RM98-1-000]

Regulations Governing Off-the-Record Communications; Public Notice

February 6, 2002.

This constitutes notice, in accordance with 18 CFR 385.2201(h), of the receipt of exempt off-the-record communications.

Order No. 607 (64 FR 51222, September 22, 1999) requires Commission decisional employees, who make or receive an exempt or a prohibited off-the-record communication relevant to the merits of a contested on-the-record proceeding, to deliver a copy of the communication, if written, or a summary of the substance of any oral communication, to the Secretary. In addition, on November 9, 2001, the Commission issued an Order, 97 FERC ¶ 61,182, Announcing the Establishment of State-Federal Regional Panels to Address RTO Issues, Modifying the Application of Rule 2201 in the Captioned Dockets, and Clarifying Order No. 607, wherein the Commission declared that it would treat, as exempt, State-Federal regional panel discussions between the Commission staff and state agencies which are parties to certain proceedings listed below. The order requires that the meetings of the panels be transcribed and placed in the decisional record. The order reiterated the standard requirement that the OSEC publish notice of the exempt communications and noted that the parties then have an opportunity to respond to such communications. See 18 CFR 385.2201(g).

On November 27, 2001, the State-Federal Midwest Panel discussion was held. On January 9, 2002, the State-Federal Northeast Panel discussion was held. Transcripts were prepared during both discussions and placed in the decisional record. Copies of these transcripts are on file with the Commission and are available for public inspections. The documents my be viewed on the Web at http://www.ferc.gov using the “RIMS” link, select “Docket#” and follow the instructions (call 202-208-2222 for assistance). The affected docket numbers are RT02-2-000, RT01-1-000, RT01-2-003, RT01-10-000, RT01-13-000, RT01-15-000, RT01-34-000, RT01-35-000, RT01-44-000, RT01-67-000, RT01-74-000, RT01-75-000, RT01-77-000, RT01-82-000, RT01-83-000, RT01-85-000, RT01-86-000, RT01-87-000, RT01-88-000, RT01-89-000, RT01-90-000, RT01-92-000, RT01-93-000, RT01-94-000, RT01-95-000, RT01-96-000, RT01-98-000, RM99-2-000, ER99-3144-000, EC99-80-000, RT01-99-000, RT01-100-000, RT02-1-000, EL01-80-000, RT01-37-000, RT01-84-000, RT01-26-000, ER01-123-000, ER01-2995-000, ER01-2993-000, ER01-2999-000, ER01-2997-000, ER01-2992-000, ER01-3000-000, RT01-101-000, EC01-146-000, ER00-3295-000, EC01-137-000, EL01-116-000, ER02-108-000, RM98-1-002.

Magalie R. Salas,
Secretary.

[FR Doc. 02-3333 Filed 2-11-02; 8:45 am]

BILLING CODE 6717-01-P